DEPARTMENT OF COMMERCE

National Oceanic and Atmospheric Administration

50 CFR Part 665

[Docket No. 170915903-8077-02]

RIN 0648-XF706

Pacific Island Fisheries; 2017 Hawaii Kona Crab Annual Catch Limit and Accountability Measure

AGENCY: National Marine Fisheries Service (NMFS), National Oceanic and Atmospheric Administration (NOAA), Department of Commerce.

ACTION: Final specification.

SUMMARY: In this final rule, NMFS specifies an annual catch limit (ACL) for 2017 of 3,500 lb for Hawaii Kona crab, and an accountability measure (AM) to correct or mitigate any overages of the catch limit. The ACL and AM support the long-term sustainability of fishery resources of the U.S. Pacific Islands.

DATES: The final specification is effective March 7, 2018. The final specification is applicable from January 1, 2017, through December 31, 2017.

ADDRESSES: The Fishery Ecosystem Plan for the Hawaiian Archipelago is available from the Western Pacific Fishery Management Council (Council), 1164 Bishop St., Suite 1400, Honolulu, HI 96813, tel 808-522-8220, fax 808-522-8226, or http://www.wpcouncil.org. Copies of the environmental analysis and other supporting documents for this action, identified by NOAA-NMFS-2017-0012, are available at http://www.regulations.gov/#!docketDetail;D=NOAA-NMFS-2017-0012, or from Michael D. Tosatto, Regional Administrator, NMFS Pacific Islands Region (PIR), 1845 Wasp Blvd. Bldg. 176, Honolulu, HI 96818.

FOR FURTHER INFORMATION CONTACT: Sarah Ellgen, NMFS PIR Sustainable Fisheries, 808-725-5173.

SUPPLEMENTARY INFORMATION: NMFS is specifying an ACL of 3,500 lb of Hawaii Kona crab for fishing year 2017. NMFS proposed this specification on December 20, 2017 (82 FR 60366), and the final specification does not differ from the proposed. The 2017 fishing year began on January 1 and ended on December 31.

The Council recommended the ACL based on a recommended acceptable biological catch of 3,500 lb from its Scientific and Statistical Committee, and the results of an October 2015 stock assessment. The stock assessment found that the Hawaii Kona crab stock had reached an overfished status (<50 percent of BMSY, biomass at maximum sustainable yield) in 2006, and was likely still overfished in 2010. The assessment also included biomass projections for 2010-2030 under three commercial landings scenarios: Zero lb, 7,000 lb, and 8,000 lb.

At a constant 7,000-lb annual commercial harvest rate, the assessment estimated that Kona crab biomass would increase above 50 percent of BMSY by 2030, but due to uncertainty, there was a chance that stock biomass could potentially decline to zero lb by 2020. In developing the ACL, the Council also considered information indicating a 50:50 male to female landings ratio, and information suggesting that crabs disentangled from Kona crab may have injuries that could result in mortality rates as high as 100 percent if limbs are lost. Therefore, to meet the objective of rebuilding stock biomass to levels >50 percent of BMSY, and limit total fishing mortality to 7,000 lb, the Council recommended an ACL of 3,500 lb. NMFS is planning to complete a benchmark assessment for Hawaii Kona crab in 2019, which could be available for management use in fishing year 2020.

As an AM, NMFS will apply a 3-year average catch to evaluate fishery performance against the ACL. Specifically, NMFS will use the average catch of fishing years 2015, 2016, and 2017, to evaluate fishery performance against the 2017 ACL. If, after the end of the fishing year, NMFS and the Council determine that the 3-year average catch exceeded the specified ACL, NMFS and the Council will reduce the ACL for that fishery by the amount of the overage in the subsequent year. The Council recommended an AM based on multi-year average catch data to reduce the influence of inter-annual variability in catch estimates in evaluating fishery performance against the ACL.

You may review additional background information on this action in the preamble to the proposed specification (82 FR 60366; December 20, 2017); we do not repeat that information here.

Comments and Responses

The comment period for the proposed specification ended on January 4, 2018. NMFS received two public comments that were not relevant to this rulemaking.

Changes From the Proposed Specification

There are no changes in the final specification from the proposed specification.

Classification

The Regional Administrator, NMFS PIR, determined that this action is necessary for the conservation and management of Pacific Island fisheries, and that it is consistent with the Magnuson-Stevens Fishery Conservation and Management Act and other applicable laws.

The Chief Counsel for Regulation of the Department of Commerce certified to the Chief Counsel for Advocacy of the Small Business Administration during the proposed rule stage that this action would not have a significant economic impact on a substantial number of small entities. NMFS published the factual basis for certification in the proposed specification, and does not repeat it here. NMFS did not receive comments regarding the certification and has no reason to think that anything has changed to affect it. As a result, a final regulatory flexibility analysis is not required, and one was not prepared.

This action is exempt from review under Executive Order 12866.

Authority: 16 U.S.C. 1801 et seq.

Dated: January 30, 2018.
Samuel D. Rauch, III,
Deputy Assistant Administrator for Regulatory Programs, National Marine Fisheries Service.

[FR Doc. 2018-02162 Filed 2-2-18; 8:45 am]

BILLING CODE 3510-22-P